SURFACE TRANSPORTATION BOARD

[Docket No. FD 36264]

R.J. Corman Railroad Company/Western Ohio Line—Renewal of Lease Exemption With Interchange Commitment—Norfolk Southern Railway Company

R.J. Corman Railroad Company/Western Ohio Line (RJCW), a Class III rail carrier, has filed a verified notice of exemption under 49 CFR 1150.41 to renew its lease of a rail line owned by Norfolk Southern Railway Company (NSR), located in the State of Ohio (the Line). The Line, known as the St. Mary's Line, extends from milepost SP 120.0 at St. Mary's, Auglaize County, to milepost SP 136.3 near the Ohio-Indiana border, Mercer County, a total distance of 16.3 miles.

RJCW and NSR previously executed a lease agreement regarding the Line in 1993.¹ RJCW states that the new lease agreement, dated November 12, 2018, has an initial ten-year term that may be extended by mutual agreement of the parties.

¹ R.J. Corman R.R./W. Ohio Line—Acquis. & Operation Exemption—Certain Lines of Norfolk & W. Ry., FD 32294 (ICC served Aug. 20, 1993).

RJCW certifies that its projected annual revenues from this transaction will not result in its becoming a Class I or Class II rail carrier and will not exceed $5 million. As required under 49 CFR 1150.43(h)(1), RJCW has disclosed in its verified notice that its new lease agreement with NSR contains an interchange commitment that charges RJCW an interchange charge for carloads that originate or terminate on the Line that are not interchanged to NSR.² RJCW has provided additional information regarding the interchange commitment as required by 49 CFR 1150.43(h).

² RJCW filed under seal a copy of the new lease agreement with its verified notice of exemption. See 49 CFR 1150.43(h)(1).

RJCW states in its verified notice that it intends to consummate the proposed lease renewal on or shortly after March 2, 2019, the effective date of this exemption.

If the verified notice contains false or misleading information, the exemption is void ab initio. Petitions to revoke the exemption under 49 U.S.C. 10502(d) may be filed at any time. The filing of a petition to revoke will not automatically stay the effectiveness of the exemption. Petitions to stay must be filed no later than February 22, 2019.

An original and 10 copies of all pleadings, referring to Docket No. FD 36264, must be filed with the Surface Transportation Board, 395 E Street SW, Washington, DC 20423-0001. In addition, a copy of each pleading must be served on RJCW's representative, Catherine S. Wright, Irvin Rigsby PLC, 110 N Main Street, Nicholasville, KY 40356.

According to RJCW, this action is categorically excluded from environmental review under 49 CFR 1105.6(c) and from historic reporting under 49 CFR 1105.8(b).

Board decisions and notices are available at www.stb.gov.

Decided: February 11, 2019.
By the Board, Scott M. Zimmerman, Acting Director, Office of Proceedings.
Jeffrey Herzig,
Clearance Clerk.

[FR Doc. 2019-02384 Filed 2-14-19; 8:45 am]

BILLING CODE 4915-01-P